DEPARTMENT OF COMMERCE

National Oceanic and Atmospheric Administration

50 CFR Part 679

[Docket No. 040115020-4124-02; I.D. 010204B]

RIN 0648-AR07

Fisheries of the Exclusive Economic Zone (EEZ) Off the Coast of Alaska; Recordkeeping and Reporting

AGENCY: National Marine Fisheries Service (NMFS), National Oceanic and Atmospheric Administration (NOAA), Commerce.

ACTION: Final rule.

SUMMARY: NMFS issues this final rule to revise port codes (Tables 14a and 14b) used in data collection for the Federal groundfish fisheries in the EEZ off the coast of Alaska and the Pacific halibut Individual Fishing Quota (IFQ) Program. This action removes unnecessary or potentially conflicting regulations. This action is necessary to facilitate enforcement activities and standardize the collection of port-of-landing information, and is intended to meet the conservation and management requirements of the Northern Pacific Halibut Act of 1982 (Halibut Act) with respect to halibut and the Magnuson-Stevens Fishery Conservation and Management Act (Magnuson-Stevens Act) with respect to groundfish and to further the goals and objectives of the Alaska groundfish fishery management plans.

DATES: Effective June 1, 2004.

ADDRESSES: Copies of the Regulatory Impact Review (RIR) prepared for this final regulatory action are available by writing to Sue Salveson, NMFS, Assistant Regional Administrator, Sustainable Fisheries Division, Alaska Region, NMFS, P.O. Box 21668, Juneau, AK 99802 1668, Attn: Lori Durall, or by calling the Alaska Region, NMFS, at (907) 586-7228.

Written comments regarding the burden-hour estimates or other aspects of the collection-of-information requirements contained in this final rule may be submitted to NMFS, Alaska Region at the address above, or to the Office of Management and Budget (OMB) by e-mail David_Rostker@omb.eop.gov, or fax (202) 395-7285.

FOR FURTHER INFORMATION CONTACT: Patsy A. Bearden, 907-586-7008 or e-mail patsy.bearden@noaa.gov.

SUPPLEMENTARY INFORMATION: NMFS manages the U.S. groundfish fisheries of the GOA in the EEZ off Alaska under the Fishery Management Plan for Groundfish of the Gulf of Alaska and the Fishery Management Plan for the Groundfish Fishery of the Bering Sea and Aleutian Islands Area (FMPs). The FMPs were prepared by the North Pacific Fishery Management Council and approved by the Secretary of Commerce under authority of the Magnuson-Stevens Act. The FMPs are implemented by regulations at 50 CFR part 679. NMFS manages the IFQ Program for Pacific halibut under the Halibut Act; implementing regulations are at 50 CFR 300.60 through 300.66. General provisions governing fishing by U.S. vessels in accordance with the FMPs appear at subpart H of 50 CFR part 600.

This action revises the list of port codes in Tables 14a and 14b to 50 CFR part 679. The numerical codes identify ports where IFQ landings are made and are entered by participants when filing an IFQ prior notice of landing (PNOL). The background regarding this action is detailed in the preamble to the proposed rule (69 FR 4285 January 29, 2004). Public comments on the proposed rule were invited through March 1, 2004. No public comments were received on the proposed rule.

In brief, Tables 14a and 14b are revised as follows:

1. Numerical codes that are no longer used for IFQ landings and that do not have a corresponding alphabetical code have been removed, and

2. Numerical codes for ports that are geographically close enough to be reported as one port have been combined.

Changes from the Proposed Rule

The numerical codes identify ports where IFQ landings are made. These port codes are entered by participants when filing an IFQ prior notice of landing (PNOL) and when electronically reporting an IFQ landing (see 50 CFR 679.5(l)). The alphabetical codes identify ports where groundfish landings are made. Alphabetical codes are entered by participants completing a State of Alaska, Department of Fish and Game fish ticket and also are entered by shoreside processor participants entering data into the NMFS groundfish shoreside processor electronic logbook report (SPELR) (see 50 CFR 679.5(c)).

In Table 14a to part 679 port code 102 (Akutan Bay) is combined into port code 101 (Akutan), because these two locations are geographically close.

Classification

This final rule has been determined to be not significant for purposes of Executive Order 12866.

This final rule does not duplicate, overlap, or conflict with other Federal regulations.

This action does not impose new reporting, recordkeeping or other compliance requirements on regulated small entities.

The Chief Counsel for Regulation of the Department of Commerce certified that this final rule will not have a significant economic impact on a substantial number of small entities under the Regulatory Flexibility Act. No comments were received regarding the economic impact of this final rule. Therefore, no FRFA is required, and none has been prepared.

This final rule contains two collection-of-information requirements subject to the Paperwork Reduction Act (PRA) and which have been approved by the OMB. Under control number 0648-0272, public reporting burden for the Prior Notice of Landing is estimated to average 12 minutes per response; for the IFQ landing report, 18 minutes per response is estimated. Under control number 0648-0401, public reporting burden for the Shoreside Processor Electronic Logbook Report is estimated at 30 minutes per response, including the time for reviewing instructions, searching existing data sources, gathering and maintaining the data needed, and completing and reviewing the collection of information. Send comments regarding this burden estimate, or any other aspect of this data collection, including suggestions for reducing the burden, to NMFS (see ADDRESSES) and by e-mail to David_Rostker@omb.eop.gov, or fax to (202) 395-7285.

Notwithstanding any other provision of the law, no person is required to respond to, nor shall any person be subject to a penalty for failure to comply with, a collection of information subject to the requirements of the PRA, unless that collection of information displays a currently valid OMB Control Number.

List of Subjects in 50 CFR Part 679

Alaska, Fisheries, Recordkeeping and reporting requirements.

Dated: April 26, 2004.
Rebecca Lent,
Deputy Assistant Administrator for Regulatory Programs, National Marine Fisheries Service.

For reasons set out in the preamble, 50 CFR part 679 is amended as follows:

PART 679—FISHERIES OF THE EXCLUSIVE ECONOMIC ZONE OFF ALASKA

1. The authority citation for part 679 continues to read as follows:

Authority: 16 U.S.C. 773 et seq., 1801 et seq., and 3631 et seq.; 16 U.S.C. 1540(f); Pub. L. 105 277, Title II of Division C; Pub. L. 106 31, Sec. 3027; and Pub. L. 106 554, Sec. 209.

2. Tables 14a and 14b to part 679 are revised to read as follows:

Table 14a to Part 679.—Port of Landing Codes: ¹ Alaska (March 2004)
Port Name | NMFS code | ADF&G code
Adak | 186 | ADA
Akutan, Akutan Bay | 101 | AKU
Alitak | 103 | ALI
Anchorage | 105 | ANC
Angoon | 106 | ANG
Aniak | n∕a | ANI
Anvik | n∕a | ANV
Atka | 107 | ATK
Auke Bay | 136 | JNU
Beaver Inlet | 119 | DUT
Bethel | n∕a | BET
Captains Bay | 119 | DUT
Chefornak | 189 | N∕A
Chignik | 113 | CHG
Cordova | 115 | COR
Craig | 116 | CRG
Dillingham | 117 | DIL
Douglas | 136 | JNU
Dutch Harbor/Unalaska | 119 | DUT
Egegik | 122 | EGE
Ekuk | N∕A | EKU
Elfin Cove | 123 | ELF
Emmonak | N∕A | EMM
Excursion Inlet | 124 | XIP
False Pass | 125 | FSP
Fairbanks | N∕A | FBK
Galena | N∕A | GAL
Glacier Bay | N∕A | GLB
Glennallen | N∕A | GLN
Gustavus | 127 | GUS
Haines | 128 | HNS
Halibut Cove | 130 | N∕A
Homer | 132 | HOM
Hoonah | 133 | HNH
Hydaburg | N∕A | HYD
Hyder | 134 | HDR
Juneau | 136 | JNU
Kake | 137 | KAK
Kaltag | N∕A | KAL
Kasilof | 138 | KAS
Kenai | 139 | KEN
Kenai River | 139 | KEN
Ketchikan | 141 | KTN
King Cove | 142 | KCO
King Salmon | 143 | KNG
Kipnuk | 144 | N∕A
Klawock | 145 | KLA
Kodiak | 146 | KOD
Kotzebue | N∕A | KOT
La Conner | N∕A | LAC
Mekoryuk | 147 | N∕A
Metlakatla | 148 | MET
Moser Bay | N∕A | MOS
Naknek | 149 | NAK
Nenana | N∕A | NEN
Nikiski (or Nikishka) | 150 | NIK
Ninilchik | 151 | NIN
Nome | 152 | NOM
Nunivak Island | N∕A | NUN
Old Harbor | 153 | OLD
Other Alaska¹ | 499 | UNK
Pelican | 155 | PEL
Petersburg | 156 | PBG
Port Alexander | 158 | PAL
Port Armstrong | N∕A | PTA
Port Bailey | 159 | PTB
Port Graham | 160 | GRM
Port Lions | N∕A | LIO
Port Moller | N∕A | MOL
Port Protection | 161 | N∕A
Quinhagak | 187 | N∕A
Sand Point | 164 | SPT
Savoonga | 165 | N∕A
Seldovia | 166 | SEL
Seward | 167 | SEW
Sitka | 168 | SIT
Skagway | 169 | SKG
Soldotna | N∕A | SOL
St. George | 170 | STG
St. Mary | N∕A | STM
St. Paul | 172 | STP
Tee Harbor | 136 | JNU
Tenakee Springs | 174 | TEN
Togiak | 176 | TOG
Toksook Bay | 177 | N∕A
Tununak | 178 | N/A
Ugashik | N∕A | UGA
Unalakleet | N∕A | UNA
Valdez | 181 | VAL
Wasilla | N∕A | WAS
Whittier | 183 | WHT
Wrangell | 184 | WRN
Yakutat | 185 | YAK
¹ To report a landing at a location not currently assigned a location code number: use the code for “Other” for the state or country at which the landing occurs and notify NMFS of the actual location so that the list may be updated. For example, to report a landing for Levelock, Alaska which currently has no code assigned, use code “499” for “Other AK.”

Table 14b to Part 679—Port of Landing Codes: Non-Alaska (California, Canada, Oregon, Washington) (April 2004)
Port Name | NMFS Code | ADF&G Code
CALIFORNIA |  |
Eureka | 500 | EUR
Other California¹ | 599 | N/A
CANADA |  |
Other Canada¹ | 899 | N/A
Port Edward | 802 | PRU
Prince Rupert | 802 | PRU
OREGON |  |
Astoria | 600 | AST
Newport | 603 | NPT
Olympia | N/A | OLY
Other Oregon¹ | 699 | N/A
Portland | N/A | POR
Warrenton | 604 | N/A
WASHINGTON |  |
Anacortes | 700 | ANA
Bellingham | 702 | N/A
Blaine | 717 | BLA
Everett | 704 | N/A
La Conner | 708 | LAC
Other Washington¹ | 799 | N/A
Seattle | 715 | SEA
Tacoma | N/A | TAC
¹ To report a landing at a location not currently assigned a location code number: use the code for “Other” for the state or country at which the landing occurs and notify NMFS of the actual location so that the list may be updated. For example, to report a landing for Vancouver, which currently has no code assigned, use code “899” for “Other Canada.”

[FR Doc. 04-9857 Filed 4-29-04; 8:45 am]

BILLING CODE 3510-22-S